DEPARTMENT OF HOMELAND SECURITY

Federal Emergency Management Agency

[Docket ID FEMA-2021-0002; Internal Agency Docket No. FEMA-B-2133]

Changes in Flood Hazard Determinations

AGENCY: Federal Emergency Management Agency, Department of Homeland Security.

ACTION: Notice.

SUMMARY: This notice lists communities where the addition or modification of Base Flood Elevations (BFEs), base flood depths, Special Flood Hazard Area (SFHA) boundaries or zone designations, or the regulatory floodway (hereinafter referred to as flood hazard determinations), as shown on the Flood Insurance Rate Maps (FIRMs), and where applicable, in the supporting Flood Insurance Study (FIS) reports, prepared by the Federal Emergency Management Agency (FEMA) for each community, is appropriate because of new scientific or technical data. The FIRM, and where applicable, portions of the FIS report, have been revised to reflect these flood hazard determinations through issuance of a Letter of Map Revision (LOMR), in accordance with Federal Regulations. The LOMR will be used by insurance agents and others to calculate appropriate flood insurance premium rates for new buildings and the contents of those buildings. For rating purposes, the currently effective community number is shown in the table below and must be used for all new policies and renewals.

DATES: These flood hazard determinations will be finalized on the dates listed in the table below and revise the FIRM panels and FIS report in effect prior to this determination for the listed communities.

From the date of the second publication of notification of these changes in a newspaper of local circulation, any person has 90 days in which to request through the community that the Deputy Associate Administrator for Insurance and Mitigation reconsider the changes. The flood hazard determination information may be changed during the 90-day period.

ADDRESSES: The affected communities are listed in the table below. Revised flood hazard information for each community is available for inspection at both the online location and the respective community map repository address listed in the table below. Additionally, the current effective FIRM and FIS report for each community are accessible online through the FEMA Map Service Center at https://msc.fema.gov for comparison.

Submit comments and/or appeals to the Chief Executive Officer of the community as listed in the table below.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Mapping and Insurance eXchange (FMIX) online at https://www.floodmaps.fema.gov/fhm/fmx_main.html.

SUPPLEMENTARY INFORMATION: The specific flood hazard determinations are not described for each community in this notice. However, the online location and local community map repository address where the flood hazard determination information is available for inspection is provided.

Any request for reconsideration of flood hazard determinations must be submitted to the Chief Executive Officer of the community as listed in the table below.

The modifications are made pursuant to section 201 of the Flood Disaster Protection Act of 1973, 42 U.S.C. 4105, and are in accordance with the National Flood Insurance Act of 1968, 42 U.S.C. 4001 et seq., and with 44 CFR part 65.

The FIRM and FIS report are the basis of the floodplain management measures that the community is required either to adopt or to show evidence of having in effect in order to qualify or remain qualified for participation in the National Flood Insurance Program (NFIP).

These flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. The flood hazard determinations are in accordance with 44 CFR 65.4.

The affected communities are listed in the following table. Flood hazard determination information for each community is available for inspection at both the online location and the respective community map repository address listed in the table below. Additionally, the current effective FIRM and FIS report for each community are accessible online through the FEMA Map Service Center at https://msc.fema.gov for comparison.

(Catalog of Federal Domestic Assistance No. 97.022, “Flood Insurance.”)

Michael M. Grimm,
Assistant Administrator for Risk Management, Department of Homeland Security, Federal Emergency Management Agency.

State and county | Location and case No. | Chief executive officer of community | Community map repository | Online location of letter of map revision | Date of modification | Community No.
Colorado:
Arapahoe | City of Centennial (20-08-0573P). | Mr. Matt Sturgeon, Manager, City of Centennial, 13133 East Arapahoe Road, Centennial, CO 80112. | Southeast Metro Stormwater Authority, 7437 South Fairplay Street, Centennial, CO 80112. | https://msc.fema.gov/portal/advanceSearch. | Jul. 30, 2021 | 080315
Arapahoe | Unincorporated areas of Arapahoe County (20-08-0573P). | The Honorable Nancy Jackson, Chair, Arapahoe County Board of Commissioners, 5334 South Prince Street, Littleton, CO 80120. | Arapahoe County Public Works and Development Department, 6924 South Lima Street, Centennial, CO 80112. | https://msc.fema.gov/portal/advanceSearch. | Jul. 30, 2021 | 080011
Douglas | Unincorporated areas of Douglas County (21-08-0166P). | The Honorable Lora Thomas, Chair, Douglas County Board of Commissioners, 100 3rd Street, Castle Rock, CO 80104. | Douglas County Department of Public Works Engineering, 100 3rd Street, Castle Rock, CO 80104. | https://msc.fema.gov/portal/advanceSearch. | Jul. 30, 2021 | 080049
Florida:
Bay | City of Lynn Haven (20-04-2912P). | The Honorable Dan Russell, Mayor, City of Lynn Haven, 817 Ohio Avenue, Lynn Haven, FL 32444. | Development and Planning Department, 817 Ohio Avenue, Lynn Haven, FL 32444. | https://msc.fema.gov/portal/advanceSearch. | Aug. 16, 2021 | 120009
Bay | Unincorporated areas of Bay County (20-04-2912P). | The Honorable Robert Carroll, Chairman, Bay County Board of Commissioners, 840 West 11th Street, Panama City, FL 32401. | Bay County Planning Department, 840 West 11th Street, Panama City, FL 32401. | https://msc.fema.gov/portal/advanceSearch. | Aug. 16, 2021 | 120004
Charlotte | Unincorporated areas of Charlotte County (21-04-1486P). | The Honorable Bill Truex, Chairman, Charlotte County Board of Commissioners, 18500 Murdock Circle, Port Charlotte, FL 33948. | Charlotte County Building Department, 18400 Murdock Circle, Port Charlotte, FL 33948. | https://msc.fema.gov/portal/advanceSearch. | Aug. 20, 2021 | 120061
Collier | Unincorporated areas of Collier County (21-04-0329P). | The Honorable Penny Taylor, Chair, Collier County Board of Commissioners, 3299 Tamiami Trail East, Suite 303, Naples, FL 34112. | Collier County Growth Management Department, 2800 North Horseshoe Drive, Naples, FL 34104. | https://msc.fema.gov/portal/advanceSearch. | Jul. 23, 2021 | 120067
Lee | City of Bonita Springs (21-04-1316P). | The Honorable Rick Steinmeyer, Mayor, City of Bonita Springs, 9101 Bonita Beach Road, Bonita Springs, FL 34135. | Community Development Department, 9220 Bonita Beach Road, Bonita Springs, FL 34135. | https://msc.fema.gov/portal/advanceSearch. | Aug. 10, 2021 | 120680
Monroe | Unincorporated areas of Monroe County (21-04-1092P). | The Honorable Michelle Coldiron, Mayor, Monroe County Board of Commissioners, 25 Ships Way, Big Pine Key, FL 33042. | Monroe County Building Department, 2798 Overseas Highway, Suite 300, Marathon, FL 33050. | https://msc.fema.gov/portal/advanceSearch. | Jul. 19, 2021 | 125129
Monroe | Unincorporated areas of Monroe County (21-04-1580P). | The Honorable Michelle Coldiron, Mayor, Monroe County Board of Commissioners, 25 Ships Way, Big Pine Key, FL 33042. | Monroe County Building Department, 2798 Overseas Highway, Suite 300, Marathon, FL 33050. | https://msc.fema.gov/portal/advanceSearch. | Aug. 9, 2021 | 125129
Volusia | City of Daytona Beach (20-04-3525P). | Mr. James Chisholm, Manager, City of Daytona Beach, 301 South Ridgewood Avenue, Daytona Beach, FL 32114. | Utilities Engineering Division, 125 Basin Street, Suite 100, Daytona Beach, FL 32114. | https://msc.fema.gov/portal/advanceSearch. | Jul. 2, 2021 | 125099
Volusia | City of Port Orange (20-04-5567P). | The Honorable Donald O. Burnette, Mayor, City of Port Orange, 1000 City Center Circle, Port Orange, FL 32129. | Community Development Department, 1000 City Center Circle, Port Orange, FL 32129. | https://msc.fema.gov/portal/advanceSearch. | Aug. 13, 2021 | 120313
Volusia | Unincorporated areas of Volusia County (20-04-3525P). | Mr. George Recktenwald, Volusia County Manager, 123 West Indiana Avenue, Deland, FL 32720. | Volusia County Planning and Development Services Department, 123 West Indiana Avenue, Deland, FL 32720. | https://msc.fema.gov/portal/advanceSearch. | Jul. 2, 2021 | 125155
Volusia | Unincorporated areas of Volusia County (20-04-5567P). | Mr. George Recktenwald, Volusia County Manager, 123 West Indiana Avenue, Deland, FL 32720. | Volusia County Planning and Development Services Department, 123 West Indiana Avenue, Deland, FL 32720. | https://msc.fema.gov/portal/advanceSearch. | Aug. 13, 2021 | 125155
Louisiana:
St. Tammany | City of Mandeville (20-06-2506P). | The Honorable Clay Madden, Mayor, City of Mandeville, 3101 East Causeway Approach, Mandeville, LA 70448. | City Hall, 3101 East Causeway Approach, Mandeville, LA 70448. | https://msc.fema.gov/portal/advanceSearch. | Aug. 11, 2021 | 220202
St. Tammany | Unincorporated areas of St. Tammany Parish (21-06-0797P). | The Honorable Michael B. Cooper, President, St. Tammany Parish, 21490 Koop Drive, Mandeville, LA 70471. | St. Tammany Parish Inspections and Enforcement Department, 21454 Koop Drive, Mandeville, LA 70471. | https://msc.fema.gov/portal/advanceSearch. | Aug. 10, 2021 | 225205
Massachusetts: Barnstable | Town of Barnstable (20-01-1587P). | Mr. Mark S. Ells, Manager, Town of Barnstable, 367 Main Street, Hyannis, MA 02601. | Inspectional Services Department, 200 Main Street, Hyannis, MA 02601. | https://msc.fema.gov/portal/advanceSearch. | Jul. 6, 2021 | 250001
New Mexico: Taos | Unincorporated areas of Taos County (20-06-2988P). | Mr. Brent Jaramillo, Taos County Manager, 105 Albright Street, Suite G, Taos, NM 87571. | Taos County Planning Department, 105 Albright Street, Taos, NM 87571. | https://msc.fema.gov/portal/advanceSearch. | Aug. 20, 2021 | 350078
South Carolina: Horry | City of North Myrtle Beach (21-04-0539P). | Mr. Michael Mahaney, Manager, City of North Myrtle Beach, 1018 2nd Avenue South, North Myrtle Beach, SC 29582. | Planning and Development Department, 1018 2nd Avenue South, North Myrtle Beach, SC 29582. | https://msc.fema.gov/portal/advanceSearch. | Aug. 18, 2021 | 450110
Tennessee:
Wilson | City of Lebanon (20-04-4425P). | The Honorable Rick Bell, Mayor, City of Lebanon, 106 North Castle Heights Avenue, Lebanon, TN 37087. | Engineering Department, 200 Castle Heights Avenue North, Lebanon, TN 37087. | https://msc.fema.gov/portal/advanceSearch. | Jul. 28, 2021 | 470208
Wilson | Unincorporated areas of Wilson County (20-04-4425P). | The Honorable Randall Hutto, Mayor, Wilson County, 228 East Main Street, Room 104, Lebanon, TN 37087. | Wilson County Planning Department, 228 East Main Street, Room 5, Lebanon, TN 37087. | https://msc.fema.gov/portal/advanceSearch. | Jul. 28, 2021 | 470207
Texas:
Dallas | City of Irving (20-06-2875P). | The Honorable Rick Stopfer, Mayor, City of Irving, 825 West Irving Boulevard, Irving, TX 75060. | Engineering Department, 825 West Irving Boulevard, Irving, TX 75060. | https://msc.fema.gov/portal/advanceSearch. | Aug. 2, 2021 | 480180
Harris | City of Houston (20-06-2472P). | The Honorable Sylvester Turner, Mayor, City of Houston, P.O. Box 1562, Houston, TX 77251. | Floodplain Management Department, 1002 Washington Avenue, Houston, TX 77002. | https://msc.fema.gov/portal/advanceSearch. | Aug. 2, 2021 | 480296
Rockwall | City of Royse City (20-06-3214P). | The Honorable Clay Ellis, Mayor Pro Tem, City of Royse City, P.O. Box 638, Royse City, TX 75189. | City Hall, 305 North Archer Road, Royse City, TX 75189. | https://msc.fema.gov/portal/advanceSearch. | Jul. 9, 2021 | 480548
Tarrant | City of Fort Worth (21-06-0615P). | The Honorable Betsy Price, Mayor, City of Fort Worth, 200 Texas Street, Fort Worth, TX 76102. | Department of Transportation and Public Works, 200 Texas Street, Fort Worth, TX 76102. | https://msc.fema.gov/portal/advanceSearch. | Aug. 2, 2021 | 480596
Tarrant | City of North Richland Hills (21-06-0066P). | The Honorable Oscar Trevino, Jr., Mayor, City of North Richland Hills, 4301 City Point Drive, North Richland Hills, TX 76180. | City Hall, 4301 City Point Drive, North Richland Hills, TX 76180. | https://msc.fema.gov/portal/advanceSearch. | Aug. 16, 2021 | 480607
Williamson | City of Cedar Park (21-06-0028P). | The Honorable Corbin Van Arsdale, Mayor, City of Cedar Park, 450 Cypress Creek Road, Building 1, Cedar Park, TX 78613. | Engineering Department, 450 Cypress Creek Road, Building 1, Cedar Park, TX 78613. | https://msc.fema.gov/portal/advanceSearch. | Jul. 30, 2021 | 481282
Vermont: Bennington | Town of Bennington (20-01-1034P). | Mr. Stuart Hurd, Manager, Town of Bennington, P.O. Box 469, Bennington, VT 05201. | Town Hall, 205 South Street, Bennington, VT 05201. | https://msc.fema.gov/portal/advanceSearch. | Aug. 19, 2021 | 500013
Virginia:
Frederick | City of Winchester (21-03-0704X). | The Honorable John David Smith, Jr., Mayor, City of Winchester, 15 North Cameron Street, Winchester, VA 22601. | Engineering Division, 15 North Cameron Street, Winchester, VA 22601. | https://msc.fema.gov/portal/advanceSearch. | Aug. 10, 2021 | 510173
Frederick. | Unincorporated areas of Frederick County (21-03-0704X). | The Honorable Charles S. DeHaven, Jr., Chairman-at-Large, Frederick County Board of Supervisors, 107 North Kent Street, Winchester, VA 22601. | Frederick County Zoning Department, 107 North Kent Street, Suite 202, Winchester, VA 22601. | https://msc.fema.gov/portal/advanceSearch. | Aug. 10, 2021 | 510163
West Virginia:
Cabell | City of Huntington (21-03-0357P). | The Honorable Steve Williams, Mayor, City of Huntington, P.O. Box 1659, Huntington, WV 25701. | Planning & and Zoning Department, 800 5th Avenue, Suite 2, Huntington, WV 25701. | https://msc.fema.gov/portal/advanceSearch. | Jul. 7, 2021 | 540018
Cabell | Unincorporated areas of Cabell County (21-03-0357P). | Ms. Beth Thompson, Cabell County Administrator, 750 5th Avenue, Suite 300, Huntington, WV 25701. | Cabell County Assessor's Office, 750 5th Avenue, Suite 300, Huntington, WV 25701. | https://msc.fema.gov/portal/advanceSearch. | Jul. 7, 2021 | 540016

[FR Doc. 2021-09629 Filed 5-6-21; 8:45 am]

BILLING CODE 9110-12-P